ENVIRONMENTAL PROTECTION AGENCY

[FRL-7502-8]

Science Advisory Board; Notification of Public Advisory Committee Meeting; Executive Committee Teleconference

AGENCY: Environmental Protection Agency (EPA).

ACTION: Notice.

SUMMARY: The Environmental Protection Agency (EPA), Science Advisory Board (SAB) Executive Committee (EC), a Federal Advisory Committee, will hold a public teleconference meeting on the date and time given below to consider potential self-initiated projects for FY2004.

DATES: The conference call meeting will take place June 10, 2003 from 11 a.m. to 2 p.m. (EST). Requests for oral comments, as well as submission of written comments must be received by June 4, 2003. Please see further details below.

ADDRESSES: The conference call will take place via telephone only.

FOR FURTHER INFORMATION CONTACT: Any member of the public wishing further information concerning this meeting or wishing to submit comments must contact Mr. A. Robert Flaak, Acting Deputy Director and Designated Federal Officer, EPA Science Advisory Board; Telephone (202) 564-4546; Fax (202) 501-0582; or via e-mail at flaak.robert@epa.gov.

To pre-register for the teleconference and obtain the phone number and access code, please contact Ms. Betty Fortune, EPA Science Advisory Board; Telephone (202) 564-4533, Fax (202) 501-0323; or via e-mail at: fortune.betty@epa.gov.

General information about the EPA Science Advisory Board, may be found on the SAB Web site (http://www.epa.gov/sab).

SUPPLEMENTARY INFORMATION: 1. Summary: Pursuant to the Federal Advisory Committee Act, Public Law 92-463, notice is hereby given that the Executive Committee (EC) of the U.S. EPA Science Advisory Board (SAB) will hold a public teleconference meeting to conduct an initial screening of proposed self-initiated projects for FY2004. These projects, along with projects submitted by the Agency, will be considered further by the Executive Committee at a meeting scheduled for July 16-17, 2003, and will be used to establish the SAB's Operating Plan for FY2004.

Self-initiated projects are scientific and technical projects developed by committees of the Board for review or consideration, with any advice developed subsequently forwarded to the Agency. Self-initiated projects are proposed outside of the normal mechanism of Agency requested consultations, advisories, and peer reviews, and typically address critical needs for anticipatory or cross-cutting scientific/technical advice. In an average year, the Board conducts a small number of self-initiated projects.

The interested public may attend this teleconference meeting through a telephonic link, to the extent that lines are available. Pre-registration is necessary. Additional instructions about how to participate in the conference are given above.

2. Requests for Comment: Requests for oral comments must be in writing (e-mail, fax or mail) and received by Mr. Flaak no later than noon Eastern Standard Time on June 4, 2003. Written comments should also be sent to Mr. Flaak prior to the meeting. Submission of written comments by e-mail to Mr. Flaak will maximize the time available for review by the EC.

3. Availability of Review Materials: Descriptions of these self-initiated projects will be available on the SAB Web site no later than June 2, 2003, at: (http://www.epa.gov/sab/whatsnew.htm).

4. General Guidance on Providing Oral or Written Comments at SAB Meetings: It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated above). For teleconference meetings, opportunities for oral comment will usually be limited to no more than three minutes per speaker and no more than fifteen minutes total. Deadlines for getting on the public speaker list for a meeting are given above. Speakers should bring at least 35 copies of their comments and presentation slides for distribution to the reviewers and public at the face-to-face meetings. Written Comments: Although the SAB accepts written comments until the date of the meeting (unless otherwise stated), written comments should be received in the SAB Staff Office at least one week prior to the meeting date so that the comments may be made available to the committee for their consideration. Comments should be supplied to the appropriate DFO at the address/contact information noted above in the following formats: One hard copy with original signature, and one electronic copy via e-mail (acceptable file format: WordPerfect, Word, or Rich Text files (in IBM-PC/Windows 95/98 format). Those providing written comments and who attend face-to-face meeting are also asked to bring 35 copies of their comments for public distribution.

Dated: May 16, 2003.
Vanessa T. Vu,
Director, EPA Science Advisory Board Staff Office.

[FR Doc. 03-13001 Filed 5-22-03; 8:45 am]

BILLING CODE 6560-50-P